ENVIRONMENTAL PROTECTION AGENCY

[FRL-7203-1]

Agency Information Collection Activities: Proposed Collection; Comment Request; Report to Congress on Impacts and Control of Combined Sewer Overflows and Sanitary Sewer Overflows

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Report to Congress on Impacts and Control of Combined Sewer Overflows and Sanitary Sewer Overflows (ICR Number 2063.01). Before submitting the ICR to OMB for review and approval, EPA is soliciting comments on specific aspects of the proposed information collection as described below.

DATES: Comments must be submitted on or before July 1, 2002.

ADDRESSES: Send written comments to Environmental Protection Agency, Office of Wastewater Management, (MC 4203), EPA East Building, 1200 Pennsylvania Avenue, NW., Washington, DC 20460. Express mail and courier shipments should be sent to Environmental Protection Agency, Office of Wastewater Management, EPA East, 1201 Constitution Ave., NW, Seventh Floor (MC 4203), Washington, DC 20004. Comments may be sent electronically to debell.kevin@epa.gov. Interested persons may obtain a copy of the proposed ICR without charge by calling or writing to Kevin DeBell at the Office of Wastewater Management, MC 4203, EPA East Building, 1200 Pennsylvania Avenue, NW, Washington, DC 20460; telephone (202) 564-0040; e-mail debell.kevin@epa.gov.

FOR FURTHER INFORMATION CONTACT: Kevin DeBell, EPA, Office of Wastewater Management, MC 4203, EPA East Building, 1200 Pennsylvania Avenue, NW, Washington, DC 20460; telephone (202) 564-0040; fax (202) 564-6392; e-mail debell.kevin@epa.gov.

SUPPLEMENTARY INFORMATION: Affected entities: Entities potentially affected by this action include municipalities that have had either combined sewer overflows or sanitary sewer overflows.

Title: Report to Congress on Impacts and Control of Combined Sewer Overflows and Sanitary Sewer Overflows (ICR Number 2063.01).

Abstract: EPA is proposing this ICR to support the development of a Report to Congress that will summarize the extent of human health and environmental impacts caused by municipal combined sewer overflows (CSOs) and sanitary sewer overflows (SSOs), including the location of discharges causing such impacts, the volume of pollutants discharged, and the constituents discharged; the resources spent to address these impacts; and, an evaluation of the technologies used by municipalities to address these impacts. The requirement to develop this Report was included in the Consolidated Appropriations Act for Fiscal Year 2001, Public Law 106-554.

EPA has previously estimated that there are more than 19,000 publicly owned treatment works (POTWs) nationwide, providing municipal wastewater collection and/or treatment. Nearly all of these POTWs provide wastewater collection and/or treatment for areas served by separate sanitary sewer systems. SSOs, which are releases of raw sewage, occur when the separate sanitary sewer systems fail. A small subset, approximately 850 POTWs, transport and/or treat wastewater flow from areas served by combined sewer systems (CSSs). CSOs occur when the CSS overflows and discharges to receiving water prior to treatment.

EPA plans to collect data from state environmental agencies, state, county, and local health departments, and municipalities to support the development of this Report. Information collection activities will include: Site visits, interviews, and file review, as well as phone calls to a subset of POTWs and health departments nationwide. Responses to the collection of information are voluntary.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The estimated burden reflected in this ICR is 6,201 hours and a cost of $799,245. This burden will occur only once, and the collection of information should be completed by December 31, 2003.

Of this total, the portion for municipalities is 2,565 hours at a cost of $116,267. This burden includes numerous phone and on-site interviews needed to collect data on the human health and environmental impacts associated with CSOs and SSOs, as well as information related to technology performance and cost.

The estimated burden for Federal and States governments is 1,476 hours and $585,926 and 2,160 hours and $97,052, respectively. The estimated burden includes phone and on-site interviews with Federal and State officials to support the data collection effort. This estimate also includes burden associated with reviewing draft analyses prepared by the contractor. The estimated Federal cost burden includes substantial contractor support, which is not included in the hours burden.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 19, 2002.
Pamela Barr,
Acting Director, Office of Wastewater Management.

[FR Doc. 02-10881 Filed 5-1-02; 8:45 am]

BILLING CODE 6560-50-P